ENVIRONMENTAL PROTECTION AGENCY

[EPA-HQ-OPP-2011-0004; FRL-8862-1]

Pesticide Products; Registration Applications

AGENCY: Environmental Protection Agency (EPA).

ACTION: Notice.

SUMMARY: EPA has received applications to register pesticide products containing active ingredients not included in any previously registered pesticide products. Pursuant to the provisions of section 3(c)(4) of the Federal Insecticide, Fungicide, and Rodenticide Act (FIFRA), EPA is hereby providing notice of receipt and opportunity to comment on these applications.

DATES: Comments must be received on or before March 4, 2011.

ADDRESSES: Submit your comments, identified by docket identification (ID) number and the file symbol(s) for the product(s) of interest as listed in Unit II, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the file symbol(s) for the product(s) of interest as listed in Unit II. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although, listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: The Regulatory Action Leader listed in the table in this unit:

Regulatory action leader | Telephone number and e-mail address | Mailing address | File symbol
Susanne Cerrelli | (703) 308-8077 cerrelli.susanne@epa.gov | Biopesticides and Pollution Prevention Division (7511P), Office of Pesticide Programs, Environmental Protection Agency, 1200 Pennsylvania, Ave., NW., Washington, DC 20460-0001 | 70051-RNT, 70051-RNI.
Anna Gross | (703) 305-5614 gross.anna@epa.gov | Do | 84059-RG, 84059-RU.
Chris Pfeifer | (703) 308-0031 pfeifer.chris@epa.gov | Do | 34704-RNLL, 34704-RNLA, 34704-RNLT.
Jeannine Kausch | (703) 347-8920 kausch.jeannine@epa.gov | Do | 84059-RA, 85004-I, 85004-O.
Abigail Downs | (703) 305-5259 downs.abigail@epa.gov | Antimicrobials Division (7510P). Office of Pesticide Programs, Environmental Protection Agency, 1200 Pennsylvania, Ave., NW., Washington, DC 20460-0001 | 707-GEN, 707-GRO.
Jacqueline Campbell-McFarlane | (703) 308-6416 campbell-mcfarlane.jacqueline@epa.gov | Do | 5383-RUE, 5383-RUN.
Tracy Lantz | (703) 308-6415 Lantz.tracy@epa.gov | Do | 1706-EUN, 1706-EUR, 1706-EGO.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Registration Applications

EPA has received applications to register pesticide products containing active ingredients not included in any previously registered pesticide products. Pursuant to the provisions of section 3(c)(4) of FIFRA, EPA is hereby providing notice of receipt and opportunity to comment on these applications. Notice of receipt of these applications does not imply a decision by the Agency on these applications.

1. File Symbol: 707-GEN. Docket Number: EPA-HQ-OPP-2010-1037. Applicant: Rohm and Hass Company, 100 Independence Mall West, Philadelphia, PA 19106. Product name: Bioban MB 100 Technical. Active ingredient: microbiocide and 2-methyl-1, 2-benzisothiazolin-3-one at 98.90%. Proposed classification/Use: Technical. (Abigail Downs)

2. File Symbol: 707-GRO. Docket Number: EPA-HQ-OPP-2010-1037. Applicant: Rohm and Hass Company, 100 Independence Mall West, Philadelphia, PA 19106. Product name: Bioban MB 25 Antimicrobial. Active ingredient: Microbiocide and 2-methyl-1, 2-benzisothiazolin-3-one at 25%. Proposed classification/Use: For use in formulation of emulsion products, paints, building materials, adhesives and sealants, ink, textiles, paper coating, functional chemicals, household and I&I, oil process water and recovery system, metalworking fluids. (Abigail Downs)

3. File Symbol: 1706-EUN. Docket Number: EPA-HQ-OPP-2011-0019. Applicant: Nalco Company, 1601 West Diehl Road, Naperville, IL 60563. Product name: Nalco 60620. Active ingredient: Antimicrobial and Ammonium Sulfate at 20%. Proposed classification/Use: Pulp and paper mill water systems. (Tracy Lantz)

4. File Symbol: 1706-EUR. Docket Number: EPA-HQ-OPP-2011-0020. Applicant: Nalco Company, 1601 West Diehl Road, Naperville, IL 60563. Product name: Nalco 60630. Active ingredient: Antimicrobial and Urea at 30%. Proposed classification/Use: Pulp and paper mill water systems. (Tracy Lantz)

5. File Symbol: 1706-EGO. Docket Number: EPA-HQ-OPP-2011-0020. Applicant: Nalco Company, 1601 West Diehl Road, Naperville, IL 60563. Product name: Nalco 60615. Active ingredient: Antimicrobial and Urea at 15%. Proposed classification/Use: Pulp and paper mill water systems. (Tracy Lantz)

6. File Symbol: 5383-RUE. Docket Number: EPA-HQ-OPP-2009-1000. Applicant: Troy Chemical, Inc., 8 Vreeland Rd., P.O. Box 955, Florham Park, NJ 07932-4200. Product name: TROYSAN V662. Active ingredient: Antimicrobial and Terbutryn at 48%. Proposed classification/Use: Materials preservation of coatings, stuccos, roof coatings, joint cements, and sealants. (Jacqueline Campbell-McFarlane)

7. File Symbol: 5383-RUN. Docket Number: EPA-HQ-OPP-2009-1000. Applicant: Troy Chemical, Inc., 8 Vreeland Rd., P.O. Box 955, Florham Park, NJ 07932-4200. Product name: POLYPHASE ® 710 S. Active ingredient: Antimicrobial and Terbutryn at 8%. Proposed classification/Use: Materials preservation of joint cements, coatings, sealants, stuccos, and plastics. (Jacqueline Campbell-McFarlane)

8. File Symbol: 34704-RNLL. Docket number: EPA-HQ-OPP-2011-0009. Applicant: Loveland Products, Inc., c/o Pyxis Consulting, Inc., 4110 136th St., NW., Gig Harbor, WA 98332. Product name: LPI 6194 Concentrate Seed Treatment. Active ingredient: Plant growth regulator, Salicylic Acid, at 0.04%. Proposed classification/Use: Biochemical pesticide/plant growth regulator intended for seed treatment. (Chris Pfeifer)

9. File Symbol: 34704-RNLA. Docket number: EPA-HQ-OPP-2011-0009. Applicant: Loveland Products, Inc., c/o Pyxis Consulting, Inc., 4110 136th St., NW., Gig Harbor, WA 98332. Product name: LPI 6194 RTU Seed Treatment. Active ingredient: Plant growth regulator, Salicylic Acid, at 0.0067%. Proposed classification/Use: Biochemical pesticide/plant growth regulator intended for seed treatment. (Chris Pfeifer)

10. File Symbol: 34704-RNLT. Docket number: EPA-HQ-OPP-2011-0009. Applicant: Loveland Products, Inc., c/o Pyxis Consulting, Inc., 4110 136th St., NW., Gig Harbor, WA 98332. Product name: Salicylic Acid Technical. Active ingredient: Plant growth regulator, Salicylic Acid, at 98.7%. Proposed classification/Use: Biochemical pesticide/manufacturing use product containing a plant growth regulator intended for incorporation into end use products for seed treatment. (Chris Pfeifer)

11. File Symbol: 70051-RNT. Docket number: EPA-HQ-OPP-2010-0944. Applicant: Certis U.S.A., L.L.C., 9145 Guilford Road, Suite 175, Columbia, MD 21046. Product name: CX-9032. Active ingredient: Fungicide and Bacillus subtilis var. amyloliquefaciens strain D747 at 98.35%. Proposed classification/Use: Fungicide on vegetable, melons, tree fruit and nuts, strawberry, berries, grapes, tropical fruits, herbs, coffee, mint, hops, tobacco, nurseries, greenhouses, shade house, ornamental plants and turf. (Susanne Cerrelli)

12. File Symbol: 70051-RNI. Docket number: EPA-HQ-OPP-2010-0944. Applicant: Certis U.S.A., L.L.C., 9145 Guilford Road, Suite 175, Columbia, MD 21046. Product name: CX-9030. Active ingredient: Fungicide and Bacillus subtilis var. amyloliquefaciens strain D747 at 25.0%. Proposed classification/Use: Fungicide on vegetable, melons, tree fruit and nuts, strawberry, berries, grapes, tropical fruits, herbs, coffee, mint, hops, tobacco, nurseries, greenhouses, shade house, ornamental plants and turf. (Susanne Cerrelli)

13. File Symbol: 84059-RA. Docket Number: EPA-HQ-OPP-2010-0058. Applicant: Marrone Bio Innovations, Inc., 2121 Second St., Suite B-107, Davis, CA 95618. Product Name: MBI-203 SC. Active Ingredient: Insecticide and Chromobacterium subtsugae strain PRAA4-1T at 86.50%. Proposed classification/Use: For control of foliar-feeding pests, such as caterpillars, foliage-feeding coleopteran, aphids, whiteflies, and plant-sucking mites, on ornamental plants, turf, and various edible crops. Note: In the Federal Register of March 10, 2010 (75 FR 11175) (FRL-8811-6), EPA announced receipt of two other applications to register pesticide products containing this new active ingredient. (J. Kausch)

14. File Symbol: 84059-RG. Docket Number: EPA-HQ-OPP-2011-0010. Applicant: Marrone Bio Innovations, 2121 Second Street, Suite B-107, Davis, CA 95618. Product name: MBI-206 TGAI. Active ingredient: Insecticide and Burkholderia sp. strain A396 at 100%. Proposed classification/Use: Ornamental plants, turf and edible crops. (Anna Gross)

15. File Symbol: 84059-RU. Docket Number: EPA-HQ-OPP-2011-0010. Applicant: Marrone Bio Innovations, 2121 Second Street, Suite B-107, Davis, CA 95618. Product name: MBI-206 EP. Active ingredient: Insecticide and Burkholderia sp. strain A396 at 94.46%. Proposed classification/Use: Ornamental plants, turf and edible crops. (Anna Gross)

16. File Symbol: 85004-I. Docket Number: EPA-HQ-OPP-2010-0808. Applicant: MacIntosh and Associates, Inc., 1203 Hartford Ave., Saint Paul, MN 55116-1622 (on behalf of Pasteuria Bioscience, Inc., 12085 Research Dr., Suite 185, Alachua, FL 32615) Product Name: Pasteuria reniformis—Liquid Formulation. Active Ingredient: Nematicide and Pasteuria reniformis—Pr3 [SD-5834] at 0.0033%. Proposed Classification/Use: For control of reniform nematode (Rotylenchulus reniformis) on various food and nonfood crops. Note: In the Federal Register of November 24, 2010 (75 FR 71697) (FRL-8837-3), EPA announced receipt of two other applications to register pesticide products containing this new active ingredient. (J. Kausch)

17. File Symbol: 85004-O. Docket Number: EPA-HQ-OPP-2010-0806. Applicant: MacIntosh and Associates, Inc., 1203 Hartford Ave., Saint Paul, MN 55116-1622 (on behalf of Pasteuria Bioscience, Inc., 12085 Research Dr., Suite 185, Alachua, FL 32615.) Product Name: Pasteuria nishizawae—Liquid Formulation. Active Ingredient: Nematicide and Pasteuria nishizawae—Pn1 [SD-5833] at 0.0033%. Proposed Classification/Use: For control of soybean cyst nematode (Heterodera glycines) on soybean. Note: In the Federal Register of November 24, 2010 (75 FR 71697) (FRL-8837-3), EPA announced receipt of two other applications to register pesticide products containing this new active ingredient. (J. Kausch)

List of Subjects

Environmental protection, Agricultural Commodities, Pesticides and pest.

Dated: January 20, 2011.
Keith A. Matthews,
Acting Director, Biopesticides Pollution Prevention Division, Office of Pesticide Programs.

[FR Doc. 2011-2156 Filed 2-1-11; 8:45 am]

BILLING CODE 6560-50-P